DEPARTMENT OF VETERANS AFFAIRS

Advisory Committee Charter Renewals

AGENCY: Department of Veterans Affairs.

ACTION: Notice of Advisory Committee Charter Renewals

SUMMARY: In accordance with the provisions of the Federal Advisory Committee ACT (FACA) and after consultation with the General Services Administration, the Secretary of Veterans Affairs renewed the charter for the following statutorily authorized Federal advisory committee for a two-year period, beginning on the date listed below:

Committee name | Committee description | Charter renewed on
Veterans and Community Oversight and Engagement Board | Coordinates locally with VA to identify the goals of the community and Veteran partnership; provides advice and recommendations to improve services and outcomes for Veterans, members of the Armed Forces, and the families of such Veterans and members; and provides advice and recommendations on the implementation of the Draft Master Plan approved by the Secretary on January 28, 2016, and on the creation and implementation of any other successor master plans | July 3, 2019.
Special Medical Advisory Group | Provides advice on matters relating to the care and treatment of Veterans and other matters pertinent to the operations of the Veterans Health Administration, such as research, education, training of health manpower, and VA/Department of Defense (DoD) contingency planning | July 17, 2019.
Advisory Committee on Cemeteries and Memorials | Provides advice on the administration of national cemeteries, Soldiers' lots and plots, the selection of cemetery sites, the erection of appropriate memorials, and the adequacy of Federal burial benefits | July 30, 2019.
Creating Options for Veterans' Expedited Recovery (COVER) Commission | Provides advice and examines the evidence-based therapy treatment model used by the Secretary of Veterans Affairs for treating mental health conditions of veterans and potential benefits of incorporating complementary and integrative health treatments available in non-Department facilities | August 13, 2019.

FOR FURTHER INFORMATION CONTACT: Jeffrey Moragne, Committee Management Office, Department of Veterans Affairs, Advisory Committee Management Office (00AC), 810 Vermont Avenue NW, Washington, DC 20420; telephone (202) 266-4660; or email at Jeffrey.Moragne@va.gov. To view a copy of a VA Federal advisory committee charters, please visit http://www.va.gov/advisory.

Dated: September 12, 2019.
Jelessa M. Burney,
Federal Advisory Committee Management Officer.

[FR Doc. 2019-20090 Filed 9-16-19; 8:45 am]

BILLING CODE P